DEPARTMENT OF TRANSPORTATION

Federal Aviation Administration

Notice of Intent To Rule on Application 01-04-C-00-ISP To Impose and Use the Revenue From a Passenger Facility Charge (PFC) at Long Island MacArthur Airport, Ronkonkoma, New York

AGENCY: Federal Aviation Administration (FAA), DOT.

ACTION: Notice of intent to rule on application.

SUMMARY: The FAA proposes to rule and invites public comment on the application to impose and use the revenue from a PFC at Long Island MacArthur Airport under the provisions of the Aviation Safety and Capacity Expansion Act of 1990 (Title IX of the Omnibus Budget Reconciliation Act of 1990) (Pub. L. 101-508) and Part 158 of the Federal Aviation Regulations (14 CFR Part 158).

DATES: Comments must be received on or before February 22, 2001.

ADDRESSES: Comments on this application may be mailed or delivered in triplicate to the FAA at the following address: FAA-NYADO, Mr. Philip Brito, Suite 446, 600 Old County Road, Garden City, NY 11530.

In addition, one copy of any comments submitted to the FAA must be mailed or delivered to Long Island MacArthur Airport, Mr. Alfred Werner, Airport Manager at the following address: Long Island MacArthur Airport, 100 Arrival Avenue, Ronkonkoma, New York 11779.

Air carriers and foreign air carriers may submit copies of written comments previously provided to the Town of Islip under section 158.23 of Part 158.

FOR FURTHER INFORMATION CONTACT: Mr. Dan Vornea, P.E. Airport Manager, Airports District Office, FAA-NYADO Suite 446, 600 Old County Road, Garden City, New York 11530, Telephone (416) 227-3812. The application may be reviewed in person at this same location.

SUPPLEMENTARY INFORMATION: The FAA proposes to rule and invites public comment on the application to impose and use the revenue from a PFC at Long Island MacArthur Airport under the provisions of the Aviation Safety and Capacity Expansion Act of 1990 (Title IX of the Omnibus Budget Reconciliation Act of 1990) (Pub. L. 101-508) and Part 158 of the Federal Aviation Regulations (14 CFR Part 158).

On January 5, 2001, the FAA determined that the application to impose and use the revenue from a PFC submitted by Town of Islip was substantially complete within the requirements of section 158.25 of Part 158. The FAA will approve or disapprove the application, in whole or in part, no later than April 21, 2001.

The following is a brief overview of the application.

PFC Application No.: 01-04-C-00-ISP.

Level of the proposed PFC: $3.00.

Proposed charge effective date: June 1, 2005.

Proposed charge expiration date: August 1, 2005.

Total estimated PFC revenue: $441,949.

Brief description of proposed projects:

1. Rehabilitation of Runway 10/28.

2. Terminal Master Plan and ALP Update.

3. Acquisition of ARFF Vehicle.

4. Acquisition of Two Airport Vacuum Sweepers.

5. Purchase One Airport Incident Command Vehicle.

6. Purchase Snow Removal Equipment.

7. Purchase Two Airport Security Vehicles.

8. Rehabilitate Taxiway “A”.

Class or classes of air carriers which the public agency has requested not be required to collect PFCs: Air Charters that operate aircraft of a capacity of less than ten (10) passengers (nonscheduled/on-demand air carriers filling FAA Form 1800-31).

Any person may inspect the application in person at the FAA office listed above under FOR FURTHER INFORMATION CONTACT and at the FAA regional airport office located at: Federal Aviation Administration, Eastern Region, Airports Division, AEA-610, 1 Aviation Plaza, Jamaica, New York 11434-4809.

In addition, any person may, upon request, inspect the application, notice and other documents germane to the application in person at Long Island MacArthur Airport.

Issued in Garden City, NY on January 9, 2001.
Philip Brito,
Manager, NYADO, Eastern Region.

[FR Doc. 01-2041 Filed 1-22-01; 8:45 am]

BILLING CODE 4910-13-M